DEPARTMENT OF TRANSPORTATION

Office of the Secretary

14 CFR Part 255 and Part 399

[Dockets Nos. OST-97-2881, OST-97-3014, OST-98-4775, and OST-99-5888]

RIN 2105-AC65

Computer Reservations System (CRS) Regulations; Statements of General Policy

AGENCY: Office of the Secretary, Department of Transportation.

ACTION: Notice of change in time of public hearing; notice of procedures for hearing.

SUMMARY: On Thursday, May 22, 2003, at 9 a.m., the Department will conduct a public hearing on its pending rulemaking on computer reservations systems (CRSs). The public hearing will be held at the Marriott at Metro Center, 775 12th Street, NW., Washington, DC. This notice changes the beginning time from 9:30 a.m. to 9 a.m., sets forth the procedures for the hearing, and lists the speakers in order of appearance.

FOR FURTHER INFORMATION CONTACT: Thomas Ray, Office of the General Counsel, 400 Seventh St., SW., Washington, DC 20590, (202) 366-4731.

SUPPLEMENTARY INFORMATION: The Department is conducting a rulemaking to determine whether its rules governing CRS operations, 14 CFR part 255, remain necessary and, if so, whether the current rules are effective. Our notice of proposed rulemaking set forth our tentative proposals regarding the existing rules and our tentative belief that we should not extend the rules to cover the sale of airline tickets through the Internet. 67 FR 69366, November 15, 2002. While interested persons have the opportunity to file comments and reply comments, we are also holding a public hearing on May 22 where interested persons may present their views on the major issues. 68 FR 25844, May 14, 2003. Michael Reynolds, the Deputy Assistant Secretary for Aviation and International Affairs, will preside. We must limit each speaker's time and the number of persons who may speak, because the hearing will last only one day. Persons who are unable to speak at the hearing may, of course, present their views on the issues (and on statements made at the hearing) in their reply comments.

We initially planned to begin the hearing at 9:30 a.m. We have now decided to begin at 9 a.m., which will allow us to give each speaker more time for his or her presentation.

We asked persons who wished to speak at the hearing to submit requests to us as soon as possible. We received 26 requests by noon on Friday, May 16. We have determined to allow all 26 persons to speak. Each of them will have fifteen minutes to speak, which will include any time needed for answering questions from Mr. Reynolds. If we have additional time at the end of the hearing, we may allow others to speak as well. We are not allowing rebuttals, and we have decided that organizing the hearing in panel form would be impracticable due to the number of speakers and the complexity of the issues.

We plan to have the following persons speak in the morning session, in the following order: Sabre, Amadeus, Worldspan, TechNet Texas, Galileo, Orbitz, America West, American, Travelers First, and United. The speakers in the afternoon session will be as follows: Delta, Continental, U.S. Airways, Northwest, Southwest, Shepherd Systems, Air Carrier Association, Travelocity, American Society of Travel Agents, Expedia, Large Agency Coalition, Stratton Travel Management, Interactive Travel Services Association, Competitive Enterprise Institute, Progress & Freedom Foundation, and Mercatus.

Speakers need not provide written statements at the hearing. If they choose to do so, they must also submit a copy to the docket for this proceeding.

A transcript of the hearing prepared by a court reporter will be put in the docket for this rulemaking, so that anyone who is unable to attend the hearing can learn what was said. We plan to place the transcript in the docket within one week of the hearing.

Issued in Washington, DC, on May 19, 2003.
Read C. Van de Water,
Assistant Secretary for Aviation and International Affairs.

[FR Doc. 03-12943 Filed 5-20-03; 8:53 am]

BILLING CODE 4910-62-P